DEPARTMENT OF COMMERCE

National Oceanic and Atmospheric Administration

50 CFR Part 679

[I.D. 080703B]

Groundfish Fisheries of the Bering Sea and Aleutian Islands Area and the Gulf of Alaska, King and Tanner Crab Fisheries in the Bering Sea/Aleutian Islands, Scallop and Salmon Fisheries Off the Coast of AK

AGENCY: National Marine Fisheries Service (NMFS), National Oceanic and Atmospheric Administration, Commerce.

ACTION: Notification regarding the evaluation of potential habitat areas of particular concern (HAPCs) within essential fish habitat (EFH).

SUMMARY: NMFS intends to evaluate alternative approaches for HAPC designation in the EFH Environmental Impact Statement (EIS) NMFS is preparing in conjunction with the North Pacific Fishery Management Council. Although NMFS' notice of intent to prepare the North Pacific EFH EIS implied that specific new HAPCs would be evaluated in the EIS, NMFS' current plan is to consider specific HAPC designations in separate National Environmental Policy Act analyses.

FOR FURTHER INFORMATION CONTACT: Cindy Hartmann, (907) 586-7585.

SUPPLEMENTARY INFORMATION: The Magnuson-Stevens Fishery Conservation and Management Act requires NMFS and the Council to identify EFH in fishery management plans. The EFH regulations at 50 CFR 600.815(a)(8) encourage Councils to identify HAPCs within EFH based on the ecological importance of the habitat, sensitivity to human-induced environmental degradation, stress to the habitat from development activities, and/or rarity of the habitat.

On June 6, 2001, NMFS published a notice of intent to prepare an EIS for the EFH components of the following five management plans: the Fishery Management Plan (FMP) for the Groundfish Fishery of the Bering Sea/Aleutian Islands (BSAI) Area, the FMP for groundfish of the Gulf of Alaska, the FMP for BSAI Commercial King and Tanner Crabs, the FMP for the Scallop Fishery off Alaska, and the FMP for the Salmon Fishery in the EEZ off the Coast of Alaska (66 FR 30396). NMFS requested written comments and gave notice of six scoping meetings. NMFS noted that three types of actions will be analyzed in the EIS: (1) describe and identify EFH for the fisheries; (2) identify HAPCs within EFH; and (3) minimize to the extent practicable the adverse effects of fishing on EFH.

On January 10, 2002, NMFS published a notification of preliminary alternative approaches for EFH and HAPC and requested written comments (67 FR 1325). Subsequently, based on public comment at the April, 2003, Council meeting, NMFS and the Council determined that it would be most effective to identify an approach to HAPC designation first, and then to consider specific candidate HAPCs through a separate process. For this first iteration of the HAPC process, any resulting HAPC designations and associated fishery management measures would be promulgated on the same time line as any measures resulting from the EFH EIS. The Council may also consider additional HAPCs in the future.

The EFH EIS will evaluate five alternative approaches for identifying HAPCs. Under Alternative 1, the FMPs would be amended to remove the present identification of HAPCs. Under Alternative 2, HAPCs would remain as they are currently identified in the Council's FMPs: living substrates in shallow waters, living substrates in deep waters, and freshwater areas used by anadromous fish. Under Alternative 3, HAPC designations would be constrained to explicit geographically defined sites or locations, such as a particular seamount. Under Alternative 4, habitat types would be selected based on the HAPC considerations in the regulations, and HAPC sites would then be selected within the habitat types. Under Alternative 5, HAPC areas would be identified for individual FMP species based on the productivity of the habitat.

The timeline for completing the EFH EIS has been revised since the scoping meetings held in 2001. The current schedule is as follows: Council review of preliminary draft EIS from September 15 - October 14, 2003; Draft EIS published for public comments by January 16, 2004; public comment period on draft EIS no later than January 16 - April 15, 2004; Final EIS published by June 1, 2005; Record of Decision by August 14, 2005; any resulting FMP amendments and final regulations by August 13, 2006; concurrent HAPC process with any implementing regulations by August 13, 2006.

Authority: 16 U.S.C. 1801 et. seq.

Dated: August 14, 2003.
Bruce C. Morehead,
Acting Director, Office of Sustainable Fisheries, National Marine Fisheries Service.

[FR Doc. 03-21366 Filed 8-19-03; 8:45 am]

BILLING CODE 3510-22-S